DEPARTMENT OF COMMERCE

Census Bureau

Current Population Survey (CPS)—Census 2000 Match Study

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 12, 2001.

ADDRESSES: Direct all written comments to Madeline Clayton, Departmental Forms Clearance Officer, Department of Commerce, Room 6086, 14th and Constitution Avenue, NW., Washington, DC 20230 (or via the Internet at MClayton@doc.gov).

FOR FURTHER INFORMATION CONTACT: Requests for additional information or copies of the information collection instrument(s) and instructions should be directed to Paul Siegel, U.S. Bureau of the Census, HHES-1462-3, Washington, DC 20233-8500 (paul.m.siegel@census.gov).

SUPPLEMENTARY INFORMATION:

I. Abstract

The U.S. Census Bureau plans to create a database of respondent records matched between the Current Population Survey (CPS) and Census 2000. We will use the information to conduct research on estimates of various characteristics from these two sources. This matched database will permit investigating effects of nonresponse error, coverage error, CPS month-in-sample bias, item wording, survey administration, and other forms of non-sampling error on estimates of any characteristic measured in the two surveys. Some examples are unemployment, income, poverty, and racial and ethnic identification. Its immediate uses will be in evaluating differences between Census and CPS estimates of median household income and poverty for small areas.

Most of the matches will be made through use of a computer matching algorithm and through clerical matching performed by Census Bureau employees. These matches will not impose any reporting burden. However, there may be a significant number of unmatched cases that will require field follow-up. The interviews will be conducted to match the people living within a household at the time of the CPS interview to their Census 2000 information, or to confirm that individuals in CPS were missed in Census 2000. The interviews will only include questions on social, demographic, or economic characteristics that are necessary to match individuals and households in the two surveys (e.g., address, name, age, date of birth, gender, and relationship to others in the household).

Historically, the Census Bureau has conducted several studies of matched CPS and Census data. These studies include matches of CPS to the Censuses of 1960, 1970, 1980, and 1990.

This study will allow the Census Bureau to answer many questions related to the stated objectives, including:

• What is the magnitude of difference between the census estimates of median household income and poverty and those based on the March supplement to the CPS arising from each of the following sources: (1) Differences in the way in which the data are collected and processed; (2) differences in the population to which the poverty test is applied, i.e., the poverty universe; and (3) the impact of undercoverage and adjustment on both the Census and the CPS estimates.

• To what degree do the census estimates of selected characteristics reflect response errors, as measured by simple response variance and response bias?

• What are the census characteristics of CPS nonrespondents? Are CPS nonrespondents similar to CPS respondents? What adjustments do the match results suggest be made in the CPS sampling or weighting procedures to better adjust for nonresponse bias?

• Which segments of the population does CPS do a good job of covering and which segments are poorly covered? What census information can be used to enhance the CPS sampling and weighting procedures to improve CPS coverage of all segments of the population?

• What are the census characteristics of the unemployed? What are the differences between census and CPS measurements of the unemployed and how do these differences relate to census and CPS characteristics?

• What is the level of month-in-sample bias for selected CPS characteristics? Are any particular segments of the population contributing disproportionately to month-in-sample bias? What results can be used to adjust for CPS month-in-sample bias?

• How are CPS characteristics related to census data (including demographic, socio-economic characteristics)? To what degree do differences between CPS and census response provide information relevant to the “true” response (this may address issues of bias in CPS and census estimates)? To what extent can we use census data to assess the accuracy of small area estimation models for estimating CPS characteristics and improving variance estimates? To what extent can census data be used to augment small area estimation models for estimating CPS characteristics and improving variance estimates?

• Who reports race or ethnicity differently in the CPS and census?

II. Method of Collection

The field follow-up will be conducted through face-to face interviews beginning in August of 2001 and ending by October 2001. Identifying information collected throughout the study will be held in strict confidence in accordance with Title 13.

III. Data

OMB Number: Forthcoming.

Form Number: Forthcoming.

Type of Review: Regular Submission.

Affected Public: Those residing at CPS sampled households.

Estimated Number of Respondents: 7,500.

Estimated Time Per Response: 5 minutes.

Estimated Total Annual Burden Hours: 625.

Estimated Total Annual Cost: There is no cost to the respondent other than the time taken to complete the survey.

Respondent's Obligation: Voluntary.

Legal Authority: Title 13 USC, Sections 141 & 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 8, 2001.
Madeleine Clayton,
Departmental Forms Clearance Officer, Office of the Chief Information Officer.

[FR Doc. 01-977 Filed 1-11-01; 8:45 am]

BILLING CODE 3510-07-P